DEPARTMENT OF JUSTICE

Notice of Lodging of Consent Decree Under the Clean Air Act

Notice is hereby given that on April 30, 2007, a proposed Consent Decree in United States v. Total Petrochemicals USA, Inc., Civil Action No. 07-CV-00248-MAC, was lodged with the United States District Court for the Eastern District of Texas.

In this action, the United States sought a civil penalty and injunctive relief for violations of the Clean Air Act, 42 U.S.C. 7401, et seq., and its implementing regulations, in connection with the petroleum refinery that settling defendant Total Petrochemicals USA, Inc. operates at Highway 366 and 32nd Street in Port Arthur, Texas. Specifically, the United States alleged violations of the New Source Performance Standards for petroleum refineries and the National Emission Standards for Hazardous Air Pollutants for Benzene Waste Operations. The Consent Decree requires Total Petrochemicals USA, Inc. to implement injunctive relief to improve its refinery's performance, including reducing emissions from major refinery units, reducing the flaring of process upset gasses, improving leak detection and repair procedures, and improving the management of benzene wastewater streams. The Decree also requires Total to pay a $2.9 million civil penalty.

The Department of Justice will receive a period of thirty (30) days from the date of this publication comments relating to the proposed Consent Decree. Comments should be addressed to the Assistant Attorney General, Environment and Natural Resources Division, and either e-mailed to pubcomment-ees.enrd@usdoj.gov, or mailed to P.O. Box 7611, U.S. Department of Justice, Washington, DC 20044-7611, and should refer to United States v. Total Petrochemicals USA, Inc., D.J. Ref. # 90-5-2-1-08283/3.

The Consent Decree may be examined at the Office of the United States Attorney for the Eastern District of Texas, 350 Magnolia Avenue, Suite 150, Beaumont, Texas 77701 (contact AUSA Michael Lockhart), and at U.S. EPA Region 6, 1445 Ross Avenue, Suite 1200, Dallas, Texas 75202 (contact Patricia Welton). During the public comment period, the Consent Decree also may be examined on the following Department of Justice Web site: http://www.usdoj.gov/enrd/Consent_Decrees.html. A copy of the Consent Decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $30.75 (25 cents per page reproduction cost) payable to the U.S. Treasury, or, if by e-mail or fax, forward a check in that amount to the Consent Decree Library at the stated address.

Thomas A. Marianai, Jr.,
Assistant Chief, Environmental Enforcement Section, Environment and Natural Resources Division.

[FR Doc. 07-2306 Filed 5-9-07; 8:45 am]

BILLING CODE 4410-15-M